INTERNATIONAL TRADE COMMISSION

[Investigation No. 337-TA-613]

In the Matter of Certain 3G Mobile Handsets and Components; Notice of Commission Decision Not To Review an Initial Determination Granting Complainants' Motion To Amend the Complaint and Notice of Investigation

AGENCY: U.S. International Trade Commission.

ACTION: Notice.

SUMMARY: Notice is hereby given that the U.S. International Trade Commission has determined not to review an initial determination (“ID”) (Order No. 10) of the presiding administrative law judge (“ALJ”) granting complainants' motion to amend the complaint and notice of investigation with respect to “certain Samsung entities” in the above-captioned investigation. The above-captioned investigation has been consolidated with Inv. No. 337-TA-601, Certain 3G Wideband Code Division Multiple Access (WCDMA) Handsets and Components Thereof.

FOR FURTHER INFORMATION CONTACT: Eric Frahm, Office of the General Counsel, U.S. International Trade Commission, 500 E Street, SW., Washington, DC 20436, telephone (202) 205-3107. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The subject initial determination concerns investigations which have now been consolidated: Inv. No. 337-TA-601 and Inv. No. 337-TA-613. The Commission instituted Inv. No. 337-TA-601 on April 27, 2007, based on a complaint filed by InterDigital Communications Corp. of King of Prussia, Pennsylvania and InterDigital Technology Corp. of Wilmington, Delaware (collectively, “InterDigital”) on March 23, 2007. 72 FR 21049. The complaint, as amended, alleged violations of section 337 of the Tariff Act of 1930 (19 U.S.C. 1337) in the importation into the United States, the sale for importation, and the sale within the United States after importation of certain 3G wideband code division multiple access (WCDMA) handsets and components thereof by reason of infringement of certain claims of U.S. Patent Nos. 6,674,791; 6,693,579; 7,117,004; and 7,190,966. The notice of investigation named Samsung Electronics Co., Ltd. of Seoul, Korea; Samsung Electronics America, Inc. of Ridgefield Park, New Jersey; and Samsung Telecommunications America LLC of Richardson, Texas (collectively, “Samsung”) as respondents.

The Commission instituted Inv. No. 337-TA-613 on September 11, 2007, based on a complaint filed by InterDigital on August 7, 2007. 72 FR 51838. The complaint, as amended, alleged violations of section 337 of the Tariff Act of 1930 (19 U.S.C. 1337) in the importation into the United States, the sale for importation, and the sale within the United States after importation of certain 3G mobile handsets and components by reason of infringement of certain claims of U.S. Patent Nos. 6,693,579; 7,117,004; and 7,190,966. The notice of investigation named Nokia Corporation of Finland and Nokia Inc. of Irving, Texas (collectively, “Nokia”) as respondents.

On October 24, 2007, the ALJ consolidated Inv. No. 337-TA-601 with Inv. No. 337-TA-613.

On November 2, 2007, InterDigital moved to amend the complaint and notice of investigation to add allegations of infringement of claims 1-3 and 5-11 of U.S. Patent No. 7,286,847 (“the `847 patent”) with respect to “certain Samsung entities.” Neither the motion nor the supporting memorandum specify which entities are being referred to. The Commission understands the proposed amended complaint, however, as accusing all current Samsung respondents of infringement of the '847 patent. The Commission investigative attorney filed a response supporting the motion; Samsung opposed the motion. On November 14, 2007, the ALJ issued the subject ID granting InterDigital's motion, finding that there was good cause to amend the complaint and notice of investigation. No petitions for review were filed. The Commission has determined not to review the subject ID.

The authority for the Commission's determination is contained in section 337 of the Tariff Act of 1930, as amended, 19 U.S.C. 1337, and in sections 210.14 and 210.42(c) of the Commission's Rules of Practice and Procedure, 19 CFR 210.14, 210.42(c).

By order of the Commission.
Issued: December 6, 2007.
Marilyn R. Abbott,
Secretary to the Commission.

[FR Doc. E7-24014 Filed 12-11-07; 8:45 am]

BILLING CODE 7020-02-P